DEPARTMENT OF THE INTERIOR

National Park Service

Lower St. Croix National Scenic Riverway

AGENCY: National Park Service, Interior.

ACTION: Record of decision, cooperative management plan and environmental impact statement, Lower St. Croix National Scenic Riverway, Minnesota and Wisconsin.

SUMMARY: The U.S. Department of the Interior's National Park Service, the state of Minnesota's Department of Natural Resources, and the state of Wisconsin's Department of Natural Resources have signed a record of decision (ROD) for the final cooperative management plan and final environmental impact statement for the Lower St. Croix National Scenic Riverway (Riverway), Minnesota and Wisconsin. The purpose of the cooperative management plan is to set forth the basic management philosophy for the riverway and to provide the strategies for addressing issues and achieving identified management objectives.

The Lower St. Croix National Scenic Riverway is a narrow corridor that runs for 52 miles along the boundary of Minnesota and Wisconsin, from St. Croix Falls/Taylors Falls to the confluence with the Mississippi River. The National Park Service (NPS) manages a portion of the upper 27 miles of lands and waters of this corridor. The states of Minnesota and Wisconsin administer the lower 25 miles. The states and the federal government jointly conduct planning for the riverway.

DATES: The Regional Director, NPS, Midwest Region approved the ROD, on May 7, 2001. The Commissioner, Minnesota Department of Natural Resources approved the ROD on May 2, 2001. The Secretary of the Wisconsin Department of Natural Resources approved the ROD on October 11, 2001.

FOR FURTHER INFORMATION CONTACT: Superintendent, St. Croix National Scenic Riverway, P.O. Box 708, St. Croix Falls, Wisconsin 54024, telephone 715-483-3284.

SUPPLEMENTARY INFORMATION:

Introduction

The NPS, Minnesota Department of Natural Resources (DNR), and Wisconsin Department of Natural Resources prepared the final environmental impact statement (FEIS) for the cooperative management plan for the Lower St. Croix National Scenic Riverway (October 2000). Pursuant to section 102(2)(C) of the National Environmental Policy Act of 1969, Public Law 91-190 (as amended), and the regulations promulgated by the Council on Environmental Quality at 40 CFR 1505.2, the Department of the Interior, NPS, has prepared the following ROD on the EIS.

In Wisconsin, the Department of Natural Resources is required to comply with the Wisconsin Environmental Policy Act (WEPA) as described in s.1.11, Wis. Stats., and Ch. NR 150, Wis. Adm. Code, to assure consideration of the short and long-term environmental and economic consequences of policies, plans, programs or other actions upon the quality of the human environment. As a cooperating agency in plan development and in design of the public review process, the Department has assured the CMP/EIS satisfies the substantive and procedural requirements of WEPA.

This ROD is a concise statement of what decisions were made, what alternatives were considered, the environmentally preferred alternative, the basis for the decision, and the mitigating measures developed to avoid or minimize environmental impacts.

Decision (Selected Action)

The managing agencies will implement the preferred riverway management alternative and the preferred management structure option, as described in the FEIS (with some minor clarifications, as listed in appendix A (Errata Sheet) of this ROD).

The managing agencies will emphasize protection and enhancement of the riverway's diverse character. Long stretches of the lower riverway's natural and rural landscape will be maintained, while allowing limited, planned development in communities that is consistent with the historic character of the communities. Limited new development could occur within existing municipalities along the river, although maintenance of the overall character of the municipalities will be emphasized. Outside of municipalities, landowners will be encouraged to maintain the natural character of the landscape, particularly the blufflines, as seen from the water. Protection of natural resources, including the valley's important biological diversity, will be enhanced. Riverway users will continue to find opportunities to engage in a wide range of recreational experiences. The emphasis will be on maintaining and enhancing the diverse landscape character and the diverse water-based recreational opportunities.

The Lower St. Croix Management Commission will continue as the primary policy body for joint management of the riverway. The Minnesota DNR, Wisconsin DNR, and NPS will continue as the three voting members. The management commission will include an additional nonvoting member from the newly created Lower St. Croix Partnership Team that will serve an advisory role. The Minnesota-Wisconsin Boundary Area Commission will continue in its administrative support and nonvoting advisory roles. The three managing agencies will provide staff for the management commission for riverway management, and for plan implementation. The two state departments of natural resources will adopt rules to form a basis for riverway ordinances that local governments will be required to adopt and enforce. The states will have objection (Wisconsin) or certification (Minnesota) authority over local ordinances, amendments to the ordinances, and variances. The management commission's technical committee will review local zoning actions. The technical committee and managing agencies can comment on the proposed actions. Managing agencies will have no veto authority over a local government's decision on a conditional use permit, or subdivision; if there were disagreement, appeals could be made to the courts. Existing water use enforcement roles will continue and the three agencies will provide staff for on-water law enforcement, rescue, and related activities. The three agencies will provide staff for management of lands each owns.

Other Riverway Management Alternatives and Management Structure Options Considered

Five other riverway management alternatives were evaluated in the draft and final environmental impact statements.

Alternative A would seek to maintain long stretches of the lower riverway's natural and rural landscape, while allowing limited, planned development within the boundary that was consistent with the historic character of the riverway's communities. However, a slightly greater proportion of the lower riverway would encompass town landscapes, allowing greater opportunities for development within or adjacent to riverway towns. Additional residential development would also occur in rural areas. Riverway users would continue to find an array of recreational opportunities, including increased opportunities for more social activity on parts of the river, but no efforts would be made to regulate user activities if they were not causing significant damage to the resource or posing safety hazards to others.

Alternative B would stress maintaining the current landscape character within the riverway boundary and maintaining the diversity of water recreational experiences as much as possible. However, the overall level of recreational use would be allowed to increase but some use would be reallocated and separated. New development would be more limited than alternative A and slightly more limited than the preferred alternative.

Alternative C would achieve the same conditions as alternative B—views of the land within the boundary and the diversity of river recreational experiences would be maintained. The major difference from other alternatives would be in the strategy used to maintain the diversity of recreational experiences would be to freeze the growth of recreational use.

Alternative D would promote and restore the natural qualities of the lower riverway—the predominance of natural features over modern developments would increase. Natural landscapes would be restored where feasible and managing agencies would strive to make the landscape appear more natural than it does now. Emphasis would be placed on promoting quieter, slower, and less intrusive experiences that would not disturb others. Overall recreational use would be reduced.

Alternative E, the no-action alternative, provides a baseline for comparing the other alternatives. The managing agencies would continue to manage the lower riverway as they have in the past. The agencies would continue to follow the 1976 Master Plan (with some changes based on current management practices) and the Lower St. Croix Management Commission's policy resolution. Management would focus on maintaining existing land use and recreational use patterns and would react to recreational use as they have in the past. Rural residential development would be allowed to a greater degree than all of the alternatives except alternative A. The Riverway Management Policy Resolution would be used to address new issues that arose.

Four management structure options were evaluated in the draft and final environmental impact statements.

Option 1 would also retain the management commission but would include a local government representative. The planning task force would be restructured and made permanent. It would assist in rules interpretation, mediation, and coordination for land management and/or water use management. Options 2 and 3 would further expand the management commission and create a water patrol. Option 2 would create a joint powers board for land use management, whereas option 3 would create a riverway board to manage land use. Option 4 would continue the existing management structure for policy direction and land and water use.

Environmentally Preferred Alternative

A ROD must identify the environmentally preferable alternative, which is that alternative which causes the least damage to the biological environment, and that best protects, preserves, and enhances historic, cultural, and natural resources. Alternative D is the environmentally preferred alternative, although not by a great measure over the selected action. Alternative D includes a greater emphasis on restoration of natural qualities, fewer areas for new residential or commercial development, and a reduction in overall water use and speed levels when compared to the selected action and the other alternatives. Alternative D would result in primarily negligible to moderate positive effects to resources, compared to primarily negligible to minor positive effects to resources under the selected action. However, the selected action provides greater, more holistic emphasis on the maintenance and enhancement of the outstandingly remarkable values for which the riverway was designated as a unit of the national wild and scenic river system (namely, scenic, recreational, and geologic values). The selected action better ensures the riverway's unique diversity of landscape character and water surface recreational opportunities, which result in somewhat fewer benefits to resources than under alternative D.

The management structure options address the organizational structure and administration of the riverway only. Impacts of these options are associated with nonenvironmental type effects such as costs, staffing requirements, and agency roles and responsibilities. Consequently, there is no environmentally preferred option.

Basis for Decision

The Lower St. Croix National Scenic Riverway is included in the national wild and scenic rivers system because of its scenic, recreational, and geologic values. These combined values are the hallmark of this diverse resource. Both the riverway's landscape character and its water-based recreation reflect diverse uses. Parts of the valley remain relatively wild and undisturbed, while other areas reflect the valley's proximity to a large urban area. On-water recreation reflects the diversity of the surroundings: experiences range from the quiet solitude of a nonmotorized area to a very social and highly motorized environment. The new management strategy for the Lower St. Croix National Scenic Riverway provides greater emphasis than ever to ensure continuation and enhancement of that diversity. This emphasis on protection of the riverway's diversity, along with improvements in the protection of riverway's natural, cultural, and scenic resources, reduction in conflicts between landowners and recreational users, and implementation costs provided the basis for selecting the preferred alternative for implementation.

It must also be noted that the Lower St. Croix Planning Task Force, composed of interested members of the public, citizens representing boaters, businesses, landowners, environmental groups, local governments, and various other interests, and staff of the riverway managing agencies, played a key role in developing the preferred alternative and completing the riverway plan. The overall direction and most of the elements of the preferred alternative for managing the lower riverway were agreed upon by the citizen-driven task force in a consensus-based process.

The managing agencies consulted with the U.S. Fish and Wildlife Service (FWS) on two occasions regarding the likely effects of the cooperative management plan on the endangered winged mapleleaf and Higgins' eye pearly mussels. Based on those consultations, the FWS determined that the selected action would not jeopardize the continued existence of the two species. A copy of the FWS' April 2, 2001 biological opinion is attached to this ROD as appendix B.

Findings on Impairment of Riverway Resources and Values

The NPS may not allow the impairment of riverway resources and values unless directly and specifically provided for by legislation or proclamation establishing the riverway. Impairment that is prohibited by the NPS Organic Act and the General Authorities Act is an impact that, in the professional judgment of the responsible NPS manager, would harm the integrity of riverway resources or values, including the opportunities that otherwise would be present for the enjoyment of those resources or values. In determining whether impairment would occur, park managers examine the duration, severity, and magnitude of the impact; the resources and values affected; and direct, indirect, and cumulative effects of the action. According to NPS policy, an impact would be more likely to constitute an impairment to the extent that it affects a resource or value whose conservation is: (a) Necessary to fulfill specific purposes identified in the establishing legislation or proclamation of the riverway; (b) key to the natural or cultural integrity of the riverway or to opportunities for enjoyment of the riverway; or (c) identified as a goal in the riverway's general management plan or other relevant NPS planning documents.

This policy does not prohibit all impacts to riverway resources and values. The NPS has the discretion to allow impacts to riverway resources and values when necessary and appropriate to fulfill the purposes of a riverway, so long as the impacts do not constitute impairment. Moreover, an impact is less likely to constitute impairment if it is an unavoidable result, which cannot be further mitigated, of an action necessary to preserve or restore the integrity of riverway resources or values.

After analyzing the environmental impacts described in the final cooperative management plan/environmental impact statement and public comments received, the NPS has determined that implementation of the preferred alternative will not constitute an impairment to the Lower St. Croix National Scenic Riverway's resources and values. The actions comprising the preferred alternative are intended to maintain and enhance the outstandingly remarkable values for which the riverway was designated as a unit of the national wild and scenic river system. While the preferred alternative would have some adverse effects on park resources and recreational use, none of the impacts would adversely affect resources or values to a degree that would prevent the NPS from fulfilling the purposes of the riverway, threaten the natural or cultural integrity of the riverway, or eliminate the opportunity for people to enjoy the riverway. Overall, the preferred alternative would protect and enhance the riverway's natural, cultural, and scenic resources and the diverse recreational uses found there.

Measures To Minimize Harm

The preferred alternative provides a policy-level management framework for the riverway. Within this broad context, the preferred alternative includes all practical measures to minimize environmental harm. However, additional appropriate mitigation will be identified as part of follow-up implementation plans and for individual construction projects (such as bridge and utility line replacements) to further minimize resource impacts. Additional environmental documentation, with mitigation measures, will be required before project implementation. Management actions designed to avoid or minimize impacts to resources, such as keeping people away from bald eagle nests, will continue to be employed as necessary. New regulations may be instituted to address resource protection needs that might arise from recreational use within the riverway. The managing agencies will also implement their respective components of the FWS's recovery plans for the endangered winged mapleleaf mussel and the Higgins' eye pearly mussel, which include measures to minimize impacts and recover these species.

Public Involvement

Public involvement was vitally important throughout the planning process. The public had two primary avenues by which it participated in the development of the plan—participation in the Lower St. Croix Planning Task Force and responses to newsletters, workbooks, and the draft and final versions of the plan/EIS. The task force met 53 times between February 1996 and August 1998. Membership in the task force was open throughout the planning process to all interested citizens. Persons could attend any meetings they wanted to; new participants were welcome throughout the process. Notification of task force meetings and workshops was provided through mailing lists and news releases; all meetings were open to the public.

During the planning process two newsletters and three workbooks were prepared and mailed to the public. Newsletter No. 1 (May 1996) alerted citizens that the planning process was beginning. It included draft purpose, significance, and exception resource/value statements, and asked for public comment on these statements, on desired futures for the riverway, and on issues the plan should address.

Newsletter No. 2 (November 1996) summarized responses to Newsletter No. 1 and identified changes made in the purpose, significance, and exceptional resource/value statements based on the public's comment. The newsletter also identified the issues and concerns to be addressed in the plan, described landscape units of the lower St. Croix, and described the activities of the task force. This newsletter was informational and no public input was collected.

In April 1997 Workbook No. 1 was published. The workbook described potential land and water management areas, and five preliminary management alternatives (plus a “no action” alternative), as well as a “vision” for the lower riverway. The public was asked to comment on the management alternatives and on the vision statement.

Workbook No. 2 (April 1998) was intended to compile the existing products of the task force and serve as a reference tool for persons who intended to participate in a preferred alternative workshop. This workbook was informational and no public input was collected.

Workbook No. 3 (also April 1998) focused on the guidelines for revising state land use and surface water regulations. The public was asked to indicate its support for different options being considered by the task force.

The draft cooperative management plan/environmental impact statement for the Lower St. Croix National Scenic Riverway was released to the public on September 17, 1999. The 60-day public review period ended on November 30, 1999. About 650 copies of the document were distributed to federal and state officials and agencies, local governments, organizations, individuals, and public libraries. The document also was available via the internet. Informational open houses were held on October 26 and 27, 1999. The purpose of the open houses was to discuss and answer questions about the document and solicit written comments concerning the plan. The managing agencies received almost 900 written responses during the public review period (including 600 “form” postcards). The plan was subsequently revised and the final cooperative management plan/environmental impact statement was distributed in October 2000. About 475 copies of the final document were distributed in both paper and CD-ROM formats. The final plan/EIS also was available via the internet.

Because of irregularities in the distribution of the final document and because of reinitiation of consultation with the FWS pursuant to section 7 of the Endangered Species Act, the managing agencies elected to extend the required 30-day “no action” period until January 31, 2001. This resulted in a no action period of more than 90 days. Notice of this decision was published in the Federal Register and in local papers; a letter explaining the extension also was sent to the project mailing list. Between release of the final plan and January 31, 2001, the managing agencies received 23 written responses from the public. Most of the responses repeated comments that already had been provided on the draft plan/EIS and responded to by the managing agencies. Concerns related to the following general topic areas were expressed: land use regulation guidelines, water surface use guidelines, regulatory uniformity between the states of Minnesota and Wisconsin, and geographic boundaries of land management areas. Many of the comments were about issues that are beyond the scope of the plan or that will be addressed in state rulemaking processes that will commence upon approval of this ROD.

Conclusion

The above factors and considerations justify selection of the alternative identified as the preferred alternative in the final environmental impact statement. The managing agency officials responsible for the approval of the selected action are the NPS' Midwest Regional Director, the Minnesota Department of Natural Resources Commissioner, and the Wisconsin Department of Natural Resources Secretary. By his signature, Secretary Bazzell is certifying WEPA compliance.

Note: Appendices A and B (referred to above) have been omitted from this notice. Persons who are interested in obtaining copies of the appendices should contact the Superintendent, Lower St. Croix National Scenic Riverway, at the address or telephone number noted above.

Dated: October 18, 2001.
David N. Given,
Acting Regional Director, Midwest Region.

[FR Doc. 01-28303 Filed 11-9-01; 8:45 am]

BILLING CODE 4310-70-P